DEPARTMENT OF ENERGY

Federal Energy Regulatory Commission

Combined Notice of Filings #2

Take notice that the Commission received the following electric rate filings:

Docket Numbers: ER10-1836-002; ER10-2005-002; ER11-26-002; ER10-1839-002; ER10-2551-001; ER10-1841-002; ER10-1843-002; ER10-1844-002; ER10-1845-002; ER10-1846-001; ER10-1855-001; ER10-1897-002; ER10-1905-002; ER10-1907-002; ER10-1918-002; ER10-1925-002; ER10-1927-002; ER11-2642-002; ER10-1950-002; ER10-2006-003; ER10-1964-002; ER10-1965-002; ER10-1970-002; ER10-1972-002; ER10-1971-005; ER11-4462-003; ER10-1983-002; ER10-1984-002; ER10-1991-002; ER12-1660-002; ER10-1994-001; ER10-2078-003; ER10-1995-001; ER12-631-001.

Applicants: Ashtabula Wind, LLC, Ashtabula Wind II, LLC, Ashtabula Wind III, LLC, Badger Windpower, LLC, Baldwin Wind, LLC, Butler Ridge Wind Energy Center, Crystal Lake Wind, LLC, Crystal Lake Wind II, LLC, Crystal Lake Wind III, LLC, Day County Wind, LLC, FPL Energy Burleigh County Wind, LLC, FPL Energy Hancock County Wind, LLC, FPL Energy Mower, LLC, FPL Energy North Dakota Wind, LLC, FPL Energy North Dakota Wind II, LLC, FPL Energy Oliver Wind I, LLC, FPL Energy Oliver Wind II, LLC, FPL Energy South Dakota Wind, LLC, Garden Wind, LLC, Hawkeye Power Partners, LLC, Lake Benton Power Partners II, LLC, Langdon Wind, LLC, NextEra Energy Duane Arnold, LLC, NextEra Energy Point Beach, LLC, NextEra Energy Power Marketing, LLC, NEPM II, LLC, Osceola Windpower, LLC, Osceola Windpower II, LLC, Story Wind, LLC, Tuscola Bay Wind, LLC, Wessington Wind Energy Center, White Oak Energy LLC, Wilton Wind II, LLC, Windpower Partners 1993, LLC.

Description: Updated Market Power Analysis for the Central Region of NextEra Energy Companies.

Filed Date: 7/2/12

Accession Number: 20120702-5349

Comments Due: 5 p.m. ET 8/31/12.

Docket Numbers: ER12-2204-000.

Applicants: Public Service Company of New Mexico.

Description: Notice of Cancellation of Service Schedule G to the Interconnection Agreement between Public Service Company of New Mexico and Los Alamos County.

Filed Date: 7/3/12.

Accession Number: 20120703-5178.

Comments Due: 5 p.m. ET 7/24/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2012.
Nathaniel J. Davis, Sr.,
Deputy Secretary.

[FR Doc. 2012-17158 Filed 7-12-12; 8:45 am]

BILLING CODE 6717-01-P